JUDICIAL CONFERENCE OF THE UNITED STATES

Advisory Committee on Criminal Rules; Meeting of the Judicial Conference

AGENCY: Judicial Conference of the United States, Advisory Committee on Criminal Rules.

ACTION: Revised notice of open meeting.

SUMMARY: The Advisory Committee on Criminal Rules will hold a remote meeting on May 5, 2020. The meeting will be open to public via telephonic conference for listening but not participation. An agenda and supporting materials will be posted at least 7 days in advance of the meeting at: http://www.uscourts.gov/rules-policies/records-and-archives-rules-committees/agenda-books. The announcement for this meeting was previously published in 85 FR 13924.

DATES: May 5, 2020.

Time: 10:00 a.m.-5:00 p.m.

ADDRESSES: N/A.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820, RulesCommittee_Secretary@ao.uscourts.gov.

Authority: 28 U.S.C. 2073.

Dated: March 31, 2020.
Rebecca A. Womeldorf,
Secretary, Committee on Rules of Practice and Procedure, Judicial Conference of the United States.

[FR Doc. 2020-07087 Filed 4-3-20; 8:45 am]

BILLING CODE 2210-55-P